ENVIRONMENTAL PROTECTION AGENCY

[EPA-HQ-OECA-2013-0323; FRL-9979-58-OEI]

Information Collection Request Submitted to OMB for Review and Approval; Comment Request; NESHAP for Electric Arc Furnace Steelmaking Facilities (Renewal)

AGENCY: Environmental Protection Agency (EPA).

ACTION: Notice.

SUMMARY: The Environmental Protection Agency (EPA) has submitted an information collection request (ICR)—NESHAP for Electric Arc Furnace Steelmaking Facilities (Renewal), EPA ICR Number 2277.04, OMB Control Number 2060-0608—to the Office of Management and Budget (OMB) for review and approval in accordance with the Paperwork Reduction Act. This is a proposed extension of the ICR, which is currently approved through June 30, 2018. Public comments were previously requested via the Federal Register on June 29, 2017 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before July 30, 2018.

ADDRESSES: Submit your comments, referencing EPA-HQ-OECA-2013-0323, to: (1) EPA online using www.regulations.gov (our preferred method); or by email to docket.oeca@epa.gov; or by mail to: EPA Docket Center, Environmental Protection Agency, Mail Code 28221T, 1200 Pennsylvania Ave. NW, Washington, DC 20460; and (2) OMB via email to: oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Area Sources: Electric Arc Furnace Steelmaking Facilities (40 CFR part 63, subpart YYYYY) apply to existing and new Electric Arc Furnace (EAF) steelmaking facilities that are area sources of hazardous air pollutants (HAP) emissions. The standards establish particulate matter (PM) emission limits for control devices and opacity limits for melt shops, pollution prevention requirements for ferrous scrap that is melted in EAFs, and monitoring, reporting, and recordkeeping requirements. New facilities include those that commenced construction or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form numbers: None.

Respondents/affected entities: Owners or operators of electric arc furnace steelmaking facilities.

Respondent's obligation to respond: Mandatory (40 CFR part 63, subpart YYYYY).

Estimated number of respondents: 91 (total).

Frequency of response: Initially, semiannually and occasionally.

Total estimated burden: 4,450 hours per year. Burden is defined at 5 CFR 1320.3(b).

Total estimated cost: $467,000 per year, which includes no annualized capital and/or operation & maintenance costs.

Changes in the estimates: There is an increase in burden hours and number of responses in this ICR compared to the previous ICR. This adjustment is due to (1) this ICR adjusts the number of affected sources subject to the rule based on the latest available data; (2) this ICR corrects the number of sources keeping records and entering information in record system, as well as the number of sources estimated to submit SSM reports; and (3) consistent with the Terms of Clearance, this ICR assumes all existing respondents will have to familiarize with the regulatory requirements each year.

Courtney Kerwin,
Director, Regulatory Support Division.

[FR Doc. 2018-13923 Filed 6-27-18; 8:45 am]

BILLING CODE 6560-50-P